FEDERAL RETIREMENT THRIFT INVESTMENT BOARD

Notice of Board Meeting

DATES: April 22, 2025 at 10 a.m. ET.

ADDRESSES: Telephonic. Dial-in (listen only) information: Number: 1-202-599-1426, Code: 466 112 000#; or via web: https://www.frtib.gov/.

FOR FURTHER INFORMATION CONTACT: James Kaplan, Director, Office of External Affairs, (202) 864-7150.

SUPPLEMENTARY INFORMATION:

Board Meeting Agenda

Open Session

1. Approval of the March 25, 2025, Board Meeting Minutes

2. Monthly Reports

(a) Participant Report

(b) Legislative Report

3. Quarterly Reports

(c) Investment Report

(d) Budget Review

(e) Audit Status

4. DOL Annual Audit Presentation

5. Internal Audit Update

6. FEVS Update

7. ORM Office Presentation

Closed Session

4. Information covered under 5 U.S.C. 552b (c)(9)(B) and (c)(10).

Authority: 5 U.S.C. 552b (e)(1).

Dated: April 11, 2025.
Dharmesh Vashee,
General Counsel, Federal Retirement Thrift Investment Board.

[FR Doc. 2025-06430 Filed 4-15-25; 8:45 am]

BILLING CODE P